ENVIRONMENTAL PROTECTION AGENCY

40 CFR Parts 52 and 81

[Region 7 Tracking No. 0124-1124(a); FRL-6968-4]

Approval and Promulgation of Implementation Plans and Redesignation of Areas for Air Quality Planning Purposes; State of Nebraska

AGENCY: Environmental Protection Agency (EPA).

ACTION: Proposed rule.

SUMMARY: EPA proposes to approve the State Implementation Plan (SIP) revision and request for redesignation submitted by the state of Nebraska for the purpose of redesignating the lead nonattainment area in eastern Douglas County, Nebraska, to attainment of the national ambient air quality standards (NAAQS). In the final rules section of the Federal Register, EPA is approving the state's SIP revision and promulgating an attainment designation as a direct final rule without prior proposal because the Agency views this as a noncontroversial action and anticipates no relevant adverse comments to this action. A detailed rationale for the action is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time.

DATES: Comments on this proposed action must be received in writing by May 21, 2001.

ADDRESSES: Comments may be mailed to Kim Johnson, Environmental Protection Agency, Air Planning and Development Branch, 901 North 5th Street, Kansas City, Kansas 66101.

FOR FURTHER INFORMATION CONTACT: Kim Johnson at (913) 551-7975.

SUPPLEMENTARY INFORMATION: See the information provided in the direct final rule which is located in the rules section of the Federal Register.

Dated: April 11, 2001.
William A. Spratlin,
Acting Regional Administrator,, Region 7.

[FR Doc. 01-9740 Filed 4-19-01; 8:45 am]

BILLING CODE 6560-50-U